NATIONAL AERONAUTICS AND SPACE ADMINISTRATION

[Notice (14-044)]

National Environmental Policy Act: Mars 2020 Mission

AGENCY: National Aeronautics and Space Administration.

ACTION: Notice of Availability of Draft Environmental Impact Statement (DEIS) for the Mars 2020 Mission.

SUMMARY: Pursuant to the National Environmental Policy Act of 1969, as amended, (NEPA) (42 U.S.C. 4321 et seq.), the Council on Environmental Quality Regulations for Implementing the Procedural Provisions of NEPA (40 CFR Parts 1500-1508), and NASA policy and procedures (14 CFR Part 1216 subpart 1216.3), NASA has prepared and issued a DEIS for the proposed Mars 2020 mission. The purpose of this notice is to apprise interested agencies, organizations, and individuals of the availability of the DEIS and to invite comments on the document during a 45-day public comment period. The DEIS addresses the potential environmental impacts associated with implementing the proposed mission. The purpose of the proposed mission is to continue NASA's in-depth exploration of Mars with a mobile science laboratory (rover). The DEIS includes: Descriptions of the proposed Mars 2020 mission, spacecraft, and candidate launch vehicles; an overview of the potentially affected environment at and near the launch site; and the potential environmental consequences associated with the Proposed Action and Alternatives, including the No Action Alternative. The DEIS is available at the NASA Mars 2020 NEPA Web site at: http://www.nasa.gov/agency/nepa/mars2020eis.

DATES: Interested parties are invited to submit comments on environmental issues and concerns, preferably in writing. Comments on the DEIS will be accepted until July 21, 2014, or no later than 45 days from the publication in the Federal Register of the U.S Environmental Protection Agency's Notice of Availability of the Mars 2020 Mission DEIS, whichever is later. NASA will hold a virtual public meeting on June 26, 2014, during which the public is invited to participate in an open exchange of information and electronic submission of comments. The virtual meeting will be held from1:00 to 3:00 p.m. EDT at the following Web address: https://ac.arc.nasa.gov/mars2020.

ADDRESSES: You may submit comments on the Mars 2020 mission DEIS at any time during the comment period by:

• Email: Comments by electronic mail may be sent to mars2020-nepa@lists.nasa.gov.

• Mail: Mr. George Tahu, Planetary Science Division, Science Mission Directorate, Mail Suite 3E46, NASA Headquarters, Washington, DC 20546-0001.

• Telephone: Comments will be accepted at 202-358-0016.

Comments will also be accepted electronically during the June 26th, 2014 virtual public meeting at the following Web site: https://ac.arc.nasa.gov/mars2020. The DEIS may be reviewed at the following locations:

• NASA Headquarters, Library, Room 1J20, 300 E Street SW., Washington, DC 20546;

• Jet Propulsion Laboratory, Visitors Lobby, Building 249, 4800 Oak Grove Drive, Pasadena, CA 91109.

Limited hard copies or CDs of the DEIS are available by contacting Mr. George Tahu at the address, telephone number, or electronic mail address provided below.

FOR FURTHER INFORMATION CONTACT: Mr. George Tahu, Planetary Science Division, Science Mission Directorate, NASA Headquarters, Washington, DC 20456-001, telephone 202-358-0016, or electronic mail at mars2020-nepa@lists.nasa.gov. Additional information on NASA's NEPA process and the proposed Mars 2020 mission can be found on the Internet at: http://www.nasa.gov/agency/nepa/ and http://mars.jpl.nasa.gov/mars2020/.

SUPPLEMENTARY INFORMATION: The proposed Mars 2020 mission is planned for launch during the July-August 2020 time period from Kennedy Space Center (KSC) or Cape Canaveral Air Force Station (CCAFS), Florida, on an expendable launch vehicle. The DEIS evaluates three alternatives in addition to the No Action Alternative. Under the Proposed Action (Alternative 1), the proposed Mars 2020 rover would utilize a radioisotope power system, a Multi-Mission Radioisotope Thermoelectric Generator (MMRTG), to continually provide electrical power to the rover's battery and heat for on board systems so the rover can operate and conduct science on the surface of Mars. Under Alternative 2, the proposed Mars 2020 rover would utilize solar energy as its source of electrical power to operate and conduct science on the surface of Mars. Under Alternative 3, the proposed Mars 2020 rover would utilize solar energy augmented by the thermal output from Light Weight Radioisotope Heater Units (LWRHUs) to help keep the rover's on board systems at proper operating temperatures to conduct science on the surface of Mars.

The DEIS assesses potential environmental impacts associated with a normal launch as well as a potential launch accident. These include potential non-radiological and radiological impacts.

Public Meeting: As a follow-up to the public scoping meetings held in Florida on October 9-10, 2013, NASA will hold a virtual public meeting during which the public is invited to participate in an open exchange of information, including briefings by agency and project representatives, and electronic submission of formal comments before, during, and after the meeting. This meeting will be held on June 26, 2014, at the following Web address: https://ac.arc.nasa.gov/mars2020.

Further information on the virtual public meeting can be obtained by contracting Mr. George Tahu at the address and phone number indicted herein or by visiting the Mars 2020 NEPA Web site at: http://www.nasa.gov/agency/nepa/mars2020eis.

NASA will consider all comments received in developing its Final EIS; comments received and responses to comments will be included in the final document.

Calvin F. Williams,
Assistant Administrator, Office of Strategic Infrastructure.

[FR Doc. 2014-13151 Filed 6-4-14; 8:45 am]

BILLING CODE 7510-13-P